OFFICE OF THE UNITED STATES TRADE REPRESENTATIVE

Notice of Meeting of the Industry Sector Advisory Committee on Services for Trade Policy Matters (ISAC-13)

AGENCY: Office of the United States Trade Representative.

ACTION: Notice of a partially opened meeting.

SUMMARY: The Industry Sector Advisory Committee on Services for Trade Policy Matters (ISAC-13) will hold a meeting on October 16, 2001, from 9 a.m. to 12 noon. The meeting will be opened to the public from 9 a.m. to 9:45 a.m. and closed to the public from 9:45 a.m. to 12 noon.

DATES: The meeting is scheduled for October 16, 2001, unless otherwise notified.

ADDRESSES: The meeting will be held in Conference Room 6057, of the Department of Commerce, located at 14th Street between Pennsylvania and Constitution Avenues, NW., Washington, DC.

FOR FURTHER INFORMATION CONTACT: Karen Holderman (principal contacts), at (202) 482-0345, Department of Commerce, 14th Street and Constitution Avenue, NW., Washington, DC 20230 or myself on (202) 395-6120.

SUPPLEMENTARY INFORMATION: During the opening portion of the meeting the following topics will be addressed:

• Report on October 2001 World Trade Organization (WTO) General Agreement on Trade in Services (GATS) Negotiations.

• Report on October Financial Services Seminar.

• Proposed Data Privacy Website and Asia Pacific Economic (APEC) Corporation Privacy Initiative.

• Report on TransAtlantic Business Dialogue (TABD) Proceedings.

Elizabeth A. Gianini,
Acting Assistant U.S. Trade Representative for Intergovernmental Affairs and Public Liaison.

[FR Doc. 01-25561 Filed 10-10-01; 8:45 am]

BILLING CODE 3190-01-M